DEPARTMENT OF AGRICULTURE

Forest Service

Proposed Twin Creek Timber Sale; Caribou-Targhee National Forest, Bear Lake County, ID

AGENCY: USDA Forest Service.

ACTION: Notice of intent to prepare environmental impact statement.

SUMMARY: The USDA Forest Service will prepare an Environmental Impact Statement to document the analysis and disclose the environmental impacts of proposed actions to harvest timber, build roads, and regenerate new stands of trees in upper Georgetown Canyon of the Caribou National Forest in Bear Lake County, Idaho. The proposed project is located in T. 10 S., R. 44, Sections 1, 12, 13, 24 and T. 10 S., R. 44 E. sections 6 and 7, Boise Meridian. Implementing a regeneration cut to lodgepole pine stands will provide an Allowable Sale Q of sawlogs to industry and help meet the desired future condition for function, structure, and composition to lodgepole pine stands on suitable timberlands in the Georgetown Watershed.

The Montpelier Ranger District of the Caribou National Forest proposes to harvest an estimated 2,500,000 million board feet of commercial timber on approximately 329 acres. All 329 acres would receive group seed tree cut. All units considered for cutting are mature lodgepole pine. An estimated 7.0 miles of road would need to be reconstructed, 1.9 miles would need to be constructed, 1.0 mile of existing road would be opened and 1.0 mile would be closed. Some road construction would occur on private ground. Approximately 54 acres would be harvested in the Dry Ridge Inventoried Roadless Area, #04164. All merchantable timber would be yarded using tractors. Natural regeneration is planned for in all the proposed cutting units. Logging slash will be available for firewood to the public. The remaining logging slash will then be burned. Ten to fifteen tons per acres of large woody debris will be left in each cutting unit for nutrient recycling.

The issues identified during scoping and the analysis process will determine alternatives to the proposed action. The no action alternative will be analyzed.

DATES: Written comments concerning the scope of the analysis described in this Notice should be received within 30 days of the date of publication of this Notice in the Federal Register. No scoping meetings are planned at this time. Information received will be used in preparation of the draft EIS and final EIS.

ADDRESSES: Send written comments to Caribou-Targhee National Forest, Montpelier Ranger District, 322 North 4th Street, Montpelier, Idaho 83254.

FOR FURTHER INFORMATION CONTACT: Questions concerning the proposed action and EIS should be directed to Eric Mattson, Caribou-Targhee National Forest, Montpelier Ranger District, 322 N. 4th Street, Montpelier, Idaho 83254 (Telephone: (208) 847-0375).

SUPPLEMENTARY INFORMATION: The Forest Service is seeking information and comments from Federal, State and local agencies, as well as individuals and organizations that may be interested in, or affected by the proposed action. The Forest Service invites written comments and suggestions on the issues related to the proposal and the area being analyzed.

The responsible official is Jerry B. Reese, Forest Supervisor, Caribou-Targhee National Forest, 1405 Hollipark Dr., Idaho Falls, Idaho 83401.

The decision to be made is: The Forest Service needs to decide whether to continue the present course of action (the no action alternative) or to implement the proposed action with applicable mitigation measures, or to implement an alternative to the proposed action with its applicable mitigation measures.

The tentative date for filing the Draft EIS is 15 February 2003. The tentative date for filing the final EIS is 15 April 2003. The comment period on the draft environmental impact statement will be open for 45 days from the date the Environmental Protection Agency publishes the notice of availability in the Federal Register.

The Forest Service believes, at this early stage, it is important to give viewers notice of several court ruling related to public participation in the environmental review process. First, reviewers of draft environmental impact statements must structure their participation in the environmental review of the proposal so that it is meaningful and alert an agency to the reviewer's position and contentions. Vermont Yankee Nuclear Power Corp. v. NRDC, 435 U.S. 519 (1978). Also, environmental objections that could be raised at the draft impact statement stage but are not raised until after completion of the final environmental impact statement may be waived or dismissed by the courts. City of Angoon v. Hodel, 803 F2d 1016, 1022 (9th Cir. 1986) and Wisconsin Heritages, Inc. v. Harris, 490 F. Supp. 1334, 1338 (E.D. Wis. 1980). Because of these court rulings, it is very important that those interested in this proposed action participate by the close of the 45-day comment period of the Draft Environmental Impact statement so that substantive comments and objections are made available to the Forest Service at a time when it can meaningfully consider them and respond to the in the Final Environmental Impact Statement. Agency representatives and other interested people are invited to visit with Forest Service officials at any time during the EIS process.

To assist the Forest Service in identifying and considering issues and concerns on the proposed action, comments on the Draft Environmental Impact Statement should be as specific as possible. It is also helpful if comments refer to specific pages or chapters of the Draft. Comments may also address the adequacy of the Draft Environmental Impact Statement or the merits of the alternatives formulated and discussed in the statement. Reviewers may wish to refer to the Council on Environmental Quality Regulations for implementing the procedural provisions of the National Environmental Policy Act at 40 CFR 1503.3 in addressing these points. Comments received in response to this solicitation, including names and addresses of those who comment, will be considered part of the public record on this proposed action and will be available for public inspection. Comments submitted anonymously will be accepted and considered; however, those who submit anonymous comments will not have standing to appeal the subsequent decision under 36 CFR 215 or 217. Additionally, pursuant to 7 CFR 1.27(d), any person may request the agency to withhold a submission from the public record by showing how the Freedom of Information Act (FOIA) permits such confidentiality. Persons requesting such confidentially should be aware that, under the FOIA, confidentially may be granted in only limited circumstances, such as to protect trade secrets. The Forest Service will inform the requester of the agency's decision regarding the request for confidentially, and where the request is denied, the agency will return the submission and notify the requester that the comments may be resubmitted with or without name and address within 10 days.

Dated: November 20, 2002.
Jerry B. Reese,
Forest Supervisor, Caribou-Targhee National Forest, Intermountain Region, USDA Forest Service.

[FR Doc. 02-30912 Filed 12-5-02; 8:45 am]

BILLING CODE 3410-11-M